DEPARTMENT OF HEALTH AND HUMAN SERVICES

Food and Drug Administration

[Docket No. FDA-2010-N-0427]

Public Workshop on Medical Devices and Nanotechnology: Manufacturing, Characterization, and Biocompatibility Considerations; Correction

AGENCY: Food and Drug Administration, HHS.

ACTION: Notice; correction.

SUMMARY: The Food and Drug Administration (FDA) is correcting a notice that appeared in the Federal Register of August 23, 2010 (75 FR 51829). The notice announced the public workshop entitled “Medical Devices & Nanotechnology: Manufacturing, Characterization, and Biocompatibility Considerations.” The notice was published with an incorrect registration Web site. This document corrects that Web site.

FOR FURTHER INFORMATION CONTACT: Paul Gadiock, Food and Drug Administration, 10903 New Hampshire Ave., Bldg. 66, rm. 4432, Silver Spring, MD 20993-0002, 301-796-5736.

SUPPLEMENTARY INFORMATION: In FR Doc. 2010-20837, appearing on page 51829 in the Federal Register of Monday, August 23, 2010, the following correction is made:

1. On page 51829, in the second column, in the Registration and Requests for Oral Presentations section, in the first full paragraph, beginning in the third line, “http://www.fda.gov/MedicalDevices/NewsEvents/WorskshopsConferences/default.htm” is corrected to read “http://www.fda.gov/MedicalDevices/NewsEvents/WorkshopsConferences/default.htm”.

Dated: August 27, 2010.
David Dorsey,
Acting Deputy Commissioner for Policy, Planning and Budget.

[FR Doc. 2010-21801 Filed 8-31-10; 8:45 am]

BILLING CODE 4160-01-S